DEPARTMENT OF ENERGY

Federal Energy Regulatory Commission

Combined Notice of Filings #1

Take notice that the Commission received the following electric rate filings:

Docket Numbers: ER10-1908-010; ER10-1909-010; ER10-1910-010; ER10-1911-010.

Applicants: Duquesne Conemaugh, LLC, Duquesne Keystone, LLC, Duquesne Light Company, Duquesne Power, LLC.

Description: Notice of Change in Status of the Duquesne MBR Sellers.

Filed Date: 4/28/15.

Accession Number: 20150428-5563.

Comments Due: 5 p.m. ET 5/19/15.

Docket Numbers: ER13-823-003; ER15-1348-001; ER12-1561-002.

Applicants: Roseton Generating LLC, Castleton Commodities Merchant Trading L.P., CCI Rensselaer LLC.

Description: Supplement to March 20, 2015 Triennial Market Power Analysis Update of Castleton Commodities Merchant Trading L.P., et al. for the Northeast Region.

Filed Date: 4/28/15.

Accession Number: 20150428-5560.

Comments Due: 5 p.m. ET 5/19/15.

Docket Numbers: ER14-279-001.

Applicants: Midcontinent Independent System Operator, Inc., Interstate Power and Light Company.

Description: Compliance filing per 35: 2015-04-29_Guttenberg WDS Compliance Filing to be effective 1/1/2014.

Filed Date: 4/29/15.

Accession Number: 20150429-5417.

Comments Due: 5 p.m. ET 5/20/15.

Docket Numbers: ER14-325-005; ER11-4500-008; ER12-128-006; ER14-2858-003.

Applicants: Enel Cove Fort, LLC, Enel Stillwater, LLC, EGP Stillwater Solar, LLC, Origin Wind Energy, LLC.

Description: Notice of Non-Material Change in Status of Enel Cove Fort, LLC, et. al.

Filed Date: 4/28/15.

Accession Number: 20150428-5566.

Comments Due: 5 p.m. ET 5/19/15.

Docket Numbers: ER14-480-000; ER15-1451-000.

Applicants: California Independent System Operator Corporation.

Description: Informational Filing on Market Data Required 120 Days in Advance of Reinstating Convergence Bidding at the Interties of the California Independent System Operator Corporation.

Filed Date: 12/31/14.

Accession Number: 20141231-5317.

Comments Due: 5 p.m. ET 5/20/15.

Docket Numbers: ER14-480-000; ER15-1451-000.

Applicants: California Independent System Operator Corporation.

Description: Supplement to December 31, 2014 Informational Filing on Market Data Required 120 Days in Advance of Reinstating Convergence Bidding at the Interties of the California Independent System Operator Corporation.

Filed Date: 4/3/15.

Accession Number: 20150403-5175.

Comments Due: 5 p.m. ET 5/20/15.

Docket Numbers: ER15-883-002.

Applicants: Southern California Edison Company.

Description: Tariff Amendment per 35.17(b): Second Amended GIA Distrib Serv Agmt San Gorgonio Weswinds II, Difwind Farms to be effective 12/31/9998.

Filed Date: 4/28/15.

Accession Number: 20150428-5332.

Comments Due: 5 p.m. ET 5/19/15.

Docket Numbers: ER15-945-001.

Applicants: Midcontinent Independent System Operator, Inc., ITC Midwest LLC.

Description: Compliance filing per 35: 2015-04-29_ITC Midwest Adder Compliance Filing to be effective 4/1/2015.

Filed Date: 4/29/15.

Accession Number: 20150429-5325.

Comments Due: 5 p.m. ET 5/20/15.

Docket Numbers: ER15-1190-001.

Applicants: Duke Energy Florida, Inc., Duke Energy Progress, Inc., Duke Energy Carolinas, LLC.

Description: Tariff Amendment per 35.17(b): OATT Attachment C Amendment (3rd) to be effective 2/10/2015.

Filed Date: 4/29/15.

Accession Number: 20150429-5005.

Comments Due: 5 p.m. ET 5/14/15.

Docket Numbers: ER15-1419-001.

Applicants: Emera Maine.

Description: Compliance filing per 35: Amended Order No. 676-H Compliance Filing to be effective 5/15/2015.

Filed Date: 4/28/15.

Accession Number: 20150428-5509.

Comments Due: 5 p.m. ET 5/8/15.

Docket Numbers: ER15-1584-000.

Applicants: New York State Electric & Gas Corporation.

Description: Tariff Withdrawal per 35.15: Notice of Cancellation of E&P Agreement with Beacon Power Corporation to be effective 5/11/2015.

Filed Date: 4/28/15.

Accession Number: 20150428-5466.

Comments Due: 5 p.m. ET 5/19/15.

Docket Numbers: ER15-1585-000.

Applicants: New York State Electric & Gas Corporation.

Description: Tariff Withdrawal per 35.15: Notice of Cancellation of E&P Agreement with Broome Energy Resources LLC to be effective 5/11/2015.

Filed Date: 4/28/15.

Accession Number: 20150428-5470.

Comments Due: 5 p.m. ET 5/19/15.

Docket Numbers: ER15-1586-000.

Applicants: New York State Electric & Gas Corporation.

Description: Tariff Withdrawal per 35.15: Notice of Cancellation of E&P Agreement with Marsh Hill Energy LLC to be effective 5/11/2015.

Filed Date: 4/28/15.

Accession Number: 20150428-5471.

Comments Due: 5 p.m. ET 5/19/15.

Docket Numbers: ER15-1587-000.

Applicants: New York State Electric & Gas Corporation.

Description: Tariff Withdrawal per 35.15: Notice of Cancellation of E&P Agreement with Stony Creek Energy LLC to be effective 5/11/2015.

Filed Date: 4/28/15.

Accession Number: 20150428-5478.

Comments Due: 5 p.m. ET 5/19/15.

Docket Numbers: ER15-1588-000.

Applicants: Pacific Gas and Electric Company.

Description: § 205(d) rate filing per 35.13(a)(2)(iii): 5th Amendment to Extend the PG&E-NCPA Interconnection Agreement to be effective 6/30/2015.

Filed Date: 4/29/15.

Accession Number: 20150429-5013.

Comments Due: 5 p.m. ET 5/20/15.

Docket Numbers: ER15-1589-000.

Applicants: Energy Technology Savings, Inc.

Description: § 205(d) rate filing per 35.13(a)(2)(iii): Notice of Succession & Tariff Revisions to be effective 4/7/2015.

Filed Date: 4/29/15.

Accession Number: 20150429-5204.

Comments Due: 5 p.m. ET 5/20/15.

Docket Numbers: ER15-1590-000.

Applicants: New York Independent System Operator, Inc.

Description: § 205(d) rate filing per 35.13(a)(2)(iii): 205 filing re: credit policy financial reporting enhancements—annual updates to be effective 7/15/2015.

Filed Date: 4/29/15.

Accession Number: 20150429-5223.

Comments Due: 5 p.m. ET 5/20/15.

Docket Numbers: ER15-1591-000.

Applicants: Public Service Company of New Mexico.

Description: Tariff Withdrawal per 35.15: Notice of Cancellation of Attachment EIP to be effective 4/1/2015.

Filed Date: 4/29/15.

Accession Number: 20150429-5251.

Comments Due: 5 p.m. ET 5/20/15.

Docket Numbers: ER15-1592-000.

Applicants: Public Service Company of New Mexico.

Description: § 205(d) rate filing per 35.13(a)(2)(iii): Revision to Table of Contents to be effective 4/1/2015.

Filed Date: 4/29/15.

Accession Number: 20150429-5255.

Comments Due: 5 p.m. ET 5/20/15.

Docket Numbers: ER15-1593-000.

Applicants: Southern California Edison Company.

Description: § 205(d) rate filing per 35.13(a)(2)(iii): GIA and Distribution Service Agmt SunEdison Elm Avenue Fontana Project to be effective 4/30/2015.

Filed Date: 4/29/15.

Accession Number: 20150429-5274.

Comments Due: 5 p.m. ET 5/20/15.

Docket Numbers: ER15-1594-000.

Applicants: Southwest Power Pool, Inc.

Description: § 205(d) rate filing per 35.13(a)(2)(iii): 3023 Hallam Wind, LLC GIA to be effective 4/20/2015.

Filed Date: 4/29/15.

Accession Number: 20150429-5301.

Comments Due: 5 p.m. ET 5/20/15.

Docket Numbers: ER15-1595-000.

Applicants: Idaho Power Company.

Description: § 205(d) rate filing per 35.13(a)(2)(iii): PAC LTF BORA-ENPR/LGBP Service Agreements to be effective 7/1/2015.

Filed Date: 4/29/15.

Accession Number: 20150429-5306.

Comments Due: 5 p.m. ET 5/20/15.

Docket Numbers: ER15-1596-000.

Applicants: Dynegy Commercial Asset Management, LLC.

Description: § 205(d) rate filing per 35.13(a)(2)(iii): Notices of Succession and Revisions to Market-Based Rate Tariffs to be effective 4/30/2015.

Filed Date: 4/29/15.

Accession Number: 20150429-5358.

Comments Due: 5 p.m. ET 5/20/15.

Docket Numbers: ER15-1597-000.

Applicants: Dynegy Conesville, LLC.

Description: § 205(d) rate filing per 35.13(a)(2)(iii): Notices of Succession and Revisions to Market-Based Rate Tariffs to be effective 4/30/2015.

Filed Date: 4/29/15.

Accession Number: 20150429-5361.

Comments Due: 5 p.m. ET 5/20/15.

Docket Numbers: ER15-1598-000.

Applicants: Dynegy Dicks Creek, LLC.

Description: § 205(d) rate filing per 35.13(a)(2)(iii): Notices of Succession and Revisions to Market-Based Rate Tariffs to be effective 4/30/2015.

Filed Date: 4/29/15.

Accession Number: 20150429-5362.

Comments Due: 5 p.m. ET 5/20/15.

Docket Numbers: ER15-1599-000.

Applicants: Dynegy Energy Services (East), LLC.

Description: § 205(d) rate filing per 35.13(a)(2)(iii): Notices of Succession and Revisons to Market-Based Rate Tariffs to be effective 4/30/2015.

Filed Date: 4/29/15.

Accession Number: 20150429-5365.

Comments Due: 5 p.m. ET 5/20/15.

Docket Numbers: ER15-1600-000.

Applicants: Dynegy Fayette II, LLC.

Description: § 205(d) rate filing per 35.13(a)(2)(iii): Notices of Succession and Revisions to Market-Based Rate Tariffs to be effective 4/30/2015.

Filed Date: 4/29/15.

Accession Number: 20150429-5366.

Comments Due: 5 p.m. ET 5/20/15.

Docket Numbers: ER15-1601-000.

Applicants: Midcontinent Independent System Operator, Inc.

Description: § 205(d) rate filing per 35.13(a)(2)(iii): 2015-04-29_SA 2710 Notice of Termination J097 GIA to be effective 7/6/2015.

Filed Date: 4/29/15.

Accession Number: 20150429-5371.

Comments Due: 5 p.m. ET 5/20/15.

Docket Numbers: ER15-1602-000.

Applicants: Dynegy Hanging Rock II, LLC.

Description: § 205(d) rate filing per 35.13(a)(2)(iii): Notices of Succession and Revisons to Market-Based Rate Tariffs to be effective 4/30/2015.

Filed Date: 4/29/15.

Accession Number: 20150429-5373.

Comments Due: 5 p.m. ET 5/20/15.

Docket Numbers: ER15-1603-000.

Applicants: Dynegy Killen, LLC.

Description: § 205(d) rate filing per 35.13(a)(2)(iii): Notices of Succession and Revisions to Market-Based Rate Tariffs to be effective 4/30/2015.

Filed Date: 4/29/15.

Accession Number: 20150429-5378.

Comments Due: 5 p.m. ET 5/20/15.

Docket Numbers: ER15-1604-000.

Applicants: Dynegy Lee II, LLC.

Description: § 205(d) rate filing per 35.13(a)(2)(iii): Notices of Succession and Revisions to Market-Based Rate Tariffs to be effective 4/30/2015.

Filed Date: 4/29/15.

Accession Number: 20150429-5403.

Comments Due: 5 p.m. ET 5/20/15.

Docket Numbers: ER15-1605-000.

Applicants: Dynegy Miami Fort, LLC.

Description: § 205(d) rate filing per 35.13(a)(2)(iii): Notices of Succession and Revisions to Market-Based Rate Tariffs to be effective 4/30/2015.

Filed Date: 4/29/15.

Accession Number: 20150429-5404.

Comments Due: 5 p.m. ET 5/20/15.

Docket Numbers: ER15-1606-000.

Applicants: Dynegy Stuart, LLC.

Description: § 205(d) rate filing per 35.13(a)(2)(iii): Notices of Succession and Revisions to Market-Based Rate Tariffs to be effective 4/30/2015.

Filed Date: 4/29/15.

Accession Number: 20150429-5406.

Comments Due: 5 p.m. ET 5/20/15.

Docket Numbers: ER15-1607-000.

Applicants: Dynegy Washington II, LLC.

Description: § 205(d) rate filing per 35.13(a)(2)(iii): Notices of Succession and Revisions to Market-Based Rate Tariffs to be effective 4/30/2015.

Filed Date: 4/29/15.

Accession Number: 20150429-5412.

Comments Due: 5 p.m. ET 5/20/15.

Docket Numbers: ER15-1608-000.

Applicants: Dynegy Zimmer, LLC.

Description: § 205(d) rate filing per 35.13(a)(2)(iii): Notices of Succession and Revisions to Market-Based Rate Tariffs to be effective 4/30/2015.

Filed Date: 4/29/15.

Accession Number: 20150429-5413.

Comments Due: 5 p.m. ET 5/20/15.

Docket Numbers: ER15-1609-000.

Applicants: Kiyoshi Technologies, LLC.

Description: Initial rate filing per 35.12 Kiyoshi Technologies, LLC, FERC Electric Tariff to be effective 6/1/2015.

Filed Date: 4/29/15.

Accession Number: 20150429-5416.

Comments Due: 5 p.m. ET 5/20/15.

Take notice that the Commission received the following electric securities filings:

Docket Numbers: ES15-21-000.

Applicants: Connecticut Light & Power Company, Western Massachusetts Electric Company.

Description: Application of The Connecticut Light and Power Company and Western Massachusetts Electric Company to Issue Short-Term Debt Securities.

Filed Date: 4/28/15.

Accession Number: 20150428-5559.

Comments Due: 5 p.m. ET 5/19/15.

Take notice that the Commission received the following land acquisition reports:

Docket Numbers: LA15-1-000.

Applicants: Alabama Electric Marketing, LLC, Alabama Electric Marketing, LLC, Astoria Generating Company, L.P., Big Sandy Peaker Plant, LLC, California Electric Marketing, LLC, Crete Energy Venture, LLC, CSOLAR IV South, LLC, CSOLAR IV West, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Frontier Partners, Ltd., Tenaska Alabama II Partners, L.P., Tenaska Gateway Partners, Ltd., Tenaska Georgia Partners, L.P., Tenaska Power Management, LLC, Tenaska Power Services Co., Tenaska Virginia Partners, L.P, Texas Electric Marketing, LLC, TPF Generation Holdings, LLC, Wolf Hills Energy, LLC.

Description: Quarterly Land Acquisition Report of the Tenaska MBR Sellers.

Filed Date: 4/28/15.

Accession Number: 20150428-5529.

Comments Due: 5 p.m. ET 5/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2015.
Kimberly D. Bose,
Secretary.

[FR Doc. 2015-10576 Filed 5-5-15; 8:45 am]

BILLING CODE 6717-01-P